DEPARTMENT OF COMMERCE

International Trade Administration

[C-570-081]

Glycine From the People's Republic of China: Alignment of Final Countervailing Duty Determination With Final Antidumping Duty Determinations of Glycine From India, Japan, and Thailand

AGENCY: Enforcement and Compliance, International Trade Administration, Department of Commerce.

SUMMARY: The Department of Commerce (Commerce) is aligning the final determination in the countervailing duty (CVD) investigation of glycine from the People's Republic of China (China) with the final determinations in the antidumping duty (AD) investigations of glycine from India, Japan, and Thailand (A-533-883, A-588-878, A-549-837).

DATES: Applicable October 23, 2018.

FOR FURTHER INFORMATION CONTACT: Tyler Weinhold and Yasmin Bordas at (202) 482-1121 and (202) 482-3813, respectively, AD/CVD Operations, Office VI, Enforcement and Compliance, International Trade Administration, U.S. Department of Commerce, 1401 Constitution Avenue NW, Washington, DC 20230.

SUPPLEMENTARY INFORMATION:

Background

On April 17, 2018, Commerce initiated the CVD investigations of Glycine from China, India, and Thailand.¹ Simultaneously, Commerce initiated AD investigations of glycine from India, Japan, and Thailand.² The CVD investigations and AD investigations cover the same class or kind of merchandise.³

¹ See Glycine from India, the People's Republic of China, and Thailand: Initiation of Countervailing Duty Investigations, 83 FR 18002 (April 25, 2018) (CVD Investigations Initiation Notice).

² See Glycine from India, Japan, and Thailand: Initiation of Less-Than- Fair-Value Investigations, 83 FR 17995 (April 25, 2018) (AD Investigations Initiation Notice).

³ Compare CVD Investigations Initiation Notice, 83 FR at 18006 (“Scope of the Investigations”) with AD Investigations Initiation Notice, 83 FR at 18000 (“Scope of the Investigations”).

On August 21, 2018, Commerce postponed the preliminary determination in the AD investigations of glycine from India, Japan, and Thailand until October 24, 2018.⁴ As indicated in Glycine from India, Japan, and Thailand: Postponement of Preliminary Determinations, in accordance with section 735(a)(1) of the Act and 19 CFR 351.210(b)(1), the deadline for the final determinations of the AD investigations will continue to be 75 days after the date of the preliminary determinations (i.e., January 7, 2019), unless postponed at a later date.⁵

⁴ See Glycine from India, Japan, and Thailand: Postponement of Preliminary Determinations in the Less-Than-Fair-Value Investigations, 83 FR 42259 (August 21, 2018) (Glycine from India, Japan, and Thailand: Postponement of Preliminary Determinations).

⁵ Id.

On September 4, 2018, Commerce published the preliminary CVD determinations of glycine from China, India, and Thailand.⁶ As indicated in Glycine from India CVD Preliminary Determination and Glycine from Thailand CVD Preliminary Determination, Commerce has aligned the final determinations of the CVD investigations of glycine from India and Thailand with the final determinations of the AD investigations of glycine from India and Thailand, respectively.⁷

⁶ See Glycine from the People's Republic of China: Preliminary Affirmative Countervailing Duty Determination, 83 FR 44863 (September 4, 2018); Glycine from India: Preliminary Affirmative Countervailing Duty Determination and Alignment of Final Determination With Final Antidumping Duty Determination, 83 FR 44859 (September 4, 2018) (Glycine from India CVD Preliminary Determination); and Glycine From Thailand: Preliminary Negative Countervailing Duty Determination, Preliminary Negative Critical Circumstances Determination, and Alignment of Final Determination With Final Antidumping Duty Determination, 83 FR 44861 (September 4, 2018) (Glycine from Thailand CVD Preliminary Determination).

⁷ Glycine from India CVD Preliminary Determination, 83 FR at 44860; Glycine from Thailand CVD Preliminary Determination, 83 FR at 44862.

Alignment With Concurrent Final AD Determinations

On August 30, 2018, in accordance with section 705(a)(1) of the Tariff Act of 1930, as amended (the Act), 19 CFR 351.210(b)(4)(i), and 351.210(i), the petitioners, GEO Specialty Chemicals, Inc. and Chattem Chemicals, Inc., timely requested alignment of the final determination in the CVD investigation of glycine from China with the final determinations in the concurrent AD investigations of glycine from India, Japan, and Thailand.⁸ Therefore, in accordance with section 705(a)(1) of the Act and 19 CFR 351.210(b)(4)(i), we are aligning the final CVD determination of glycine from China with the final AD determinations of glycine from India, Japan, and Thailand.

⁸ See Petitioners' Letter to the Secretary re: Request to Align the Countervailing Duty Investigation Final Determination with the Antidumping Duty Investigation Final Determinations in Glycine from Thailand, India and Japan, dated August 30, 2018.

As stated above, the final CVD determinations of glycine from India and Thailand have been aligned with the final AD determinations of glycine from India and Thailand. Consequently, the final CVD determination of glycine from China will be issued on the same date as the final AD determinations of glycine from India, Japan, and Thailand and the final CVD determinations of glycine from India and Thailand, which are currently scheduled to be issued no later than January 7, 2019,⁹ unless postponed.

⁹ See Glycine from India, Japan, and Thailand: Postponement of Preliminary Determinations; Glycine from India CVD Preliminary Determination; and Glycine from Thailand CVD Preliminary Determination.

This notice is issued and published pursuant to section 705(a)(1) of the Act and 19 CFR 351.210(g).

Dated: October 17, 2018.
Christian Marsh,
Deputy Assistant Secretary for Enforcement and Compliance.

[FR Doc. 2018-23101 Filed 10-22-18; 8:45 am]

BILLING CODE 3510-DS-P